DEPARTMENT OF COMMERCE

National Oceanic and Atmospheric Administration

[RTID 0648-XE715]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a virtual Public Hearing for Shrimp Framework Action.

DATES: The public hearing will convene Monday, March 31, 2025; 6 p.m.-9 p.m., EDT. For agenda details, see SUPPLEMENTARY INFORMATION.

ADDRESSES: The public hearing will take place via webinar. Registration information will be available on the Council's website by visiting www.gulfcouncil.org.

Council address: Gulf of Mexico Fishery Management Council, 4107 W Spruce Street, Suite 200, Tampa, FL 33607; telephone: (813) 348-1630.

FOR FURTHER INFORMATION CONTACT: Dr. Matt Freeman, Economist, Gulf of Mexico Fishery Management Council; matt.freeman@gulfcouncil.org, telephone: (813) 348-1630.

SUPPLEMENTARY INFORMATION: The following items are on the agenda, though agenda items may be addressed out of order (changes will be noted on the Council's website when possible).

Monday, March 31, 2025; 6 p.m.-9 p.m., EDT

The meeting will begin with a brief presentation on the Shrimp Framework Action that considers shifting the federally permitted Gulf shrimp fleet to a new platform for vessel position data collection and transmission. Staff will then take any questions before soliciting public input.

Visit the Gulf Council's website for more information in the proposed changes: https://gulfcouncil.org/fishery-management-2-2/amendments-under-development/. Register to join the webinar at: https://attendee.gotowebinar.com/register/1656030982923872853. After registering, you will receive a confirmation email containing information about joining the webinar. Public feedback on the Shrimp Framework Action will also be gathered online through an online feedback tool located at: https://docs.google.com/forms/d/e/1FAIpQLSfT96xsfvH8znf3vQSZPYK3v8ud5rPZ1ByxMYX6ayTxGczITQ/viewform?usp=pp_url&entry.524630178=Fishery+Management+Issue+Under+Consideration&entry.643298769=Framework+Action+-+Modification+of+the+Vessel+Position+Data+Collection+Program+for+the+Gulf+of+Mexico+Shrimp+Fishery.

The meeting will be via webinar only. You may register for the webinar by visiting www.gulfcouncil.org and click on the meeting on the calendar.

The timing and order in which agenda items are addressed may change as required to effectively address the issue, and the latest version along with other meeting materials will be posted on the website as they become available.

Authority: 16 U.S.C. 1801 et seq.

Dated: March 4, 2025.
Rey Israel Marquez,
Acting Deputy Director, Office of Sustainable Fisheries, National Marine Fisheries Service.

[FR Doc. 2025-03710 Filed 3-6-25; 8:45 am]

BILLING CODE 3510-22-P